ENVIRONMENTAL PROTECTION AGENCY

[FRL-7935-6]

Clean Water Act Section 303(d): Final Agency Action on Six Total Maximum Daily Loads (TMDLs)

AGENCY: Environmental Protection Agency (EPA).

ACTION: Notice of availability.

SUMMARY: This notice announces final agency action on six TMDLs prepared by EPA Region 6 for waters listed in the Atchafalaya River, Barataria River, Lake Pontchartrain, Mississippi River, Sabine River, and Terrebonne Basins of Louisiana, under section 303(d) of the Clean Water Act (CWA). Documents from the administrative record file for the six TMDLs, including TMDL calculations and responses to comments, may be viewed at http://www.epa.gov/region6/water/tmdl.htm. The administrative record file may be examined by calling or writing Ms. Diane Smith at the following address. Please contact Ms. Smith to schedule an inspection.

FOR FURTHER INFORMATION CONTACT: Diane Smith, Environmental Protection Specialist, Water Quality Protection Division, U.S. EPA Region 6, 1445 Ross Avenue, Dallas, TX 75202-2733, (214) 665-2145.

SUPPLEMENTARY INFORMATION: In 1996, two Louisiana environmental groups, the Sierra Club and Louisiana Environmental Action Network (plaintiffs), filed a lawsuit in Federal Court against EPA, styled Sierra Club, et al. v. Clifford et al., No. 96-0527, (E.D. La.). Among other claims, plaintiffs alleged that EPA failed to establish Louisiana TMDLs in a timely manner.

EPA Takes Final Agency Action on Six TMDLs

By this notice EPA is taking final agency action on the following six TMDLs for waters located within Louisiana basins:

Subsegment | Waterbody name | Pollutant
010901 | Atchafalaya Bay and Delta and Gulf Waters to the State 3-mile Limit | Mercury.
021102 | Barataria Basin Coastal Bays and Gulf Waters to the State 3-mile Limit | Mercury.
042209 | Lake Pontchartrain Basin Coastal Bays and Gulf Waters to the State 3-mile Limit | Mercury.
070601 | Mississippi River Basin Coastal Bays and Gulf Waters to the State 3-mile Limit | Mercury.
110701 | Sabine River Basin Coastal Bays and Gulf Waters to the State 3-mile Limit | Mercury.
120806 | Terrebonne Basin Coastal Bays and Gulf Waters to the State 3-mile Limit | Mercury.

EPA requested the public to provide EPA with any significant data or information that might impact the six TMDLs in the Federal Register Notice 70 FR 19760 (April 14, 2005). The comments received and EPA's response to comments may be found at http://www.epa.gov/region6/water/tmdl.htm.

Dated: June 28, 2005.
William K. Honker,
Acting Director, Water Quality Protection Division, Region 6.

[FR Doc. 05-13490 Filed 7-7-05; 8:45 am]

BILLING CODE 6560-50-P